GENERAL SERVICES ADMINISTRATION

[Notice-MA-2016-04; Docket No. 2016-0002, Sequence No. 17]

Federal Travel Regulation (FTR); Reimbursement for Use of Transportation Network Companies While on Official Travel

AGENCY: Office of Government-wide Policy (OGP), General Services Administration (GSA).

ACTION: Notice of a bulletin.

SUMMARY: The purpose of this notice is to inform agencies that FTR Bulletin 16-05, pertaining to the authorization of and reimbursement for use of Transportation Network Companies (TNCs) by Federal travelers on temporary duty, is now available online at www.gsa.gov/ftrbulletin.

DATES: Effective: August 2, 2016.

FOR FURTHER INFORMATION CONTACT: Ms. Jill Denning, Program Analyst, Office of Asset and Transportation Management (MA), OGP, GSA, at 202-208-7642 or via email at jill.denning@gsa.gov. Please cite FTR Bulletin 16-05.

SUPPLEMENTARY INFORMATION: In recent years, a new kind of transportation service provider, known as Transportation Network Companies (TNCs), have begun operations across the United States and the world. TNCs connect paying passengers with drivers-for-hire via Web sites and mobile apps. TNCs are a form of special conveyance for purposes of the Federal Travel Regulation (FTR), and may be an efficient and cost effective alternative to taxis or rental cars. This bulletin provides guidance to agencies subject to FTR to clarify that they may authorize and reimburse employees for use of TNC for official business away from the employee's official station in accordance with internal agency policy and when permissible under local laws and ordinances. Pursuant to the authority of 5 U.S.C. 5702(a) this bulletin applies only to employees on temporary duty travel. FTR Bulletin 16-05 and all other FTR Bulletins can be found at www.gsa.gov/ftrbulletin.

Dated: July 28, 2016.
Troy Cribb,
Associate Administrator, Office of Government-wide Policy.

[FR Doc. 2016-18279 Filed 8-1-16; 8:45 am]

BILLING CODE 6820-14-P